DEPARTMENT OF THE TREASURY

Submission for OMB Review; Comment Request

June 7, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 15, 2004 to be assured of consideration.

Internal Revenue Service (IRS)

OMB Number: 1545-0015.

Form Number: IRS Form 706.

Type of Review: Revision.

Title: United States Estate (and Generation-Skipping Transfer) Tax Return.

Description: Form 706 is used by executors to report and compute the Federal Estate Tax imposed by Internal Revenue Code (IRC) section 2001 and the Federal Generation-Skipping Transfer (GST) tax imposed by section 2601. IS uses the information to enforce these taxes and to verify that the tax has been properly computer.

Respondents: Individuals or households, Business or other for-profit.

Estimated Number of Respondents/Recordkeepers: 117,000.

Estimated Burden Hours Respondent/Recordkeeper:

Form | Recordkeeping | Learning about the law or the form | Preparing the form | Copying, assembling, and sending the form to the IRS
706 | 2 hr., 10 min. | 1 hr., 28 | 4 hr., 1 min. | 48 min.
Schedule A | 19 min. | 15 min. | 9 min. | 20 min.
A-1 | 45 min. | 25 min. | 58 min. | 48 min.
B | 19 min. | 9 min. | 15 min. | 20 min.
C | 13 min. | 1 min. | 8 min. | 20 min.
D | 6 min. | 6 min. | 8 min. | 20 min.
E | 39 min. | 7 min. | 24 min. | 20 min.
F | 33 min. | 7 min. | 21 min. | 20 min.
G | 26 min. | 22 min. | 11 min. | 13 min.
H | 26 min. | 7 min. | 9 min. | 13 min.
I | 26 min. | 27 min. | 11 min. | 20 min.
J | 26 min. | 7 min. | 15 min. | 20 min.
K | 26 min. | 10 min. | 9 min. | 20 min.
L | 13 min. | 4 min. | 9 min. | 20 min.
M | 13 min. | 31 min. | 24 min. | 20 min.
O | 19 min. | 11 min. | 18 min. | 16 min.
P | 6 min. | 14 min. | 18 min. | 13 min.
Q | 6 min. | 9 min. | 11 min. | 13 min.
Q Worksheet | 6 min. | 9 min. | 58 min. | 20 min.
R | 19 min. | 34 min. | 1 hr., 1 min. | 48 min.
R-1 | 6 min. | 29 min. | 24 min. | 20 min.
U | 19 min. | 3 min. | 29 min. | 20 min.
Cont. Schedule | 19 min. | 2 min. | 7 min. | 20 min.

Frequency of response: Other (once).

Estimated Total Reporting/Recordkeeping Burden: 2,077,795 hours.

OMB Number: 1545-0035.

Form Number: IRS Forms 943, 043-PR, 943-A, and 943A-PR.

Type of Review: Revision.

Title: Employer's Annual Tax Return for Agricultural Employees.

Description: Agricultural employers must prepare and file Form 943 and Form 943-PR (Puerto Rico only) to report and pay FCA taxes and (943 only) income tax voluntarily withheld. Agricultural employers may attach Forms 943-A and 943A-PR to Forms 943 and 943-PR to show their tax liabilities for semiweekly periods. The information is used to verify that the correct tax has been paid.

Respondents: Business or other for-profit.

Estimated Number of Respondents/Recordkeepers: 684,444.

Estimated Burden Hours Respondent/Recordkeeper:

Form | Recordkeeping | Learning about the law or the form | Preparing the form | Copying, assembling and sending the form to the IRS
943 | 10 hr., 31 min. | 40 min. | 1 hr., 47min | 16 min.
943-A | 8 hr., 22 min. | 0 min. | 0 min. | 8 min.
943-V | 0 min. | 0 min. | 20 min. | 0 min.

Frequency of response: Annually.

Estimated Total Reporting/Recordkeeping Burden: 8,972,974 hours.

Clearance Officer: Glenn P. Kirkland, (202) 622-3428, Internal Revenue Service, Room 6411-03, 1111 Constitution Avenue, NW.,Washington, DC 20224.

OMB Reviewer: Joseph F. Lackey, Jr., (202) 395-7316, Office of Management and Budget, Room 10235, New Executive Office Building, Washington, DC 20503.

Lois K. Holland,
Treasury PRA Clearance Officer.

[FR Doc. 04-13402 Filed 6-14-04; 8:45 am]

BILLING CODE 4830-01-P